FEDERAL COMMUNICATIONS COMMISSION

Notice of Public Information Collection(s) Being Reviewed by the Federal Communications Commission, Comments Requested

September 10, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 16, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or via internet at Nicholas_A._Fraser@omb.eop.gov and to Judith-B.Herman@fcc.gov, Federal Communications Commission, and an e-mail to PRA@fcc.gov.

FOR FURTHER INFORMATION CONTACT: For additional information, contact Judith B. Herman at 202-418-0214 or via the Internet at Judith-B.Herman@fcc.gov.

SUPPLEMENTARY INFORMATION: OMB Control Number: 3060-0531.

Title: Part 101 Rules for Local Multipoint Distribution Service (LMDS), Multiple Address System (MAS) and 24 GHz Services.

Form No.: N/A.

Type of Review: Revision of a currently approved collection.

Respondents: Business or other for-profit.

Number of Respondents: 1,474 respondents; 1,474 responses.

Estimated Time per Response: 15 hours.

Frequency of Response: Once every ten years.

Obligation to Respond: Required to obtain or retain benefits. Statutory authority for this information collection is contained in 47 U.S.C. Sections 151, 154(i), 301, 303(f), 303(g), 303(r), 307, 308, 309, 310 and 316.

Total Annual Burden: 4,261 hours.

Total Annual Cost: $368,900.

Privacy Act Impact Assessment: N/A.

Nature and Extent of Confidentiality: There is no need for confidentiality. Respondents may request materials or information submitted to the Commission be withheld from public inspection under 47 CFR 0.459 of the Commission's rules.

Needs and Uses: The Commission will submit this information collection to the Office of Management and Budget (OMB) after this 60 day comment period in order to obtain the full three year clearance from them. The Commission is requesting approval of a revision of this information collection.

The reason for the revision is that the Commission is consolidating information collections (ICs) previously approved by the OMB. They were OMB Control Numbers 3060-0947 (Section 101.1327) and 3060-0963 (Sections 101.527 and 101.529). Those ICs were discontinued because it was found that the reporting requirements contained in those rule sections would not be reported until the year 2010 (when the 10 year license renewal term is expiring). Therefore, all these reporting requirements are now being consolidated into this OMB control number 3060-0531. The information required by Sections 101.527, 101.529, 101.1011, 101.1325, and 101.1327 of the Commission's rules is used to determine whether an applicant for renewal of a Local Multipoint Distribution Service (LMDS), Multiple Address System (MAS) or 24 GHz Service license has complied with the requirement to provide substantial service by the end of the ten-year license term.

The FCC uses this information to determine whether the applicant's license will be renewed at the end of the license period. The information requested pursuant to Section 101.103 (originally approved under OMB Control Number 3060-0531) of the Commission's rules is used by the FCC staff in carrying out its duties to determine the technical, legal and other qualifications of applicants to operate and remain licensees to operate a station in the LMDS. Specifically, the frequency coordination information requested by Section 101.103 is necessary to facilitate the rendition of communication services on an interference-free basis in each service area. The frequency coordination procedures ensure that LMDS applicants and licensees have the information necessary to cooperate in the selection and use of frequencies assigned in order to minimize interference and thereby obtain the most effective use of the spectrum. The information is also necessary for the Commission staff to resolve interference conflicts that cannot be settled between or among the affected applicants and licensees. Please note that none of the rule sections have been modified or changed. The Commission is simply revising this collection to include the renewal requirements previously approved under OMB Control Numbers 3060-0947 and 3060-0963.

OMB Control Number: 3060-0270.

Title: Section 90.443, Content of Station Records.

Form No.: N/A.

Type of Review: Extension of a currently approved collection.

Respondents: Individuals or households, business or other for-profit, not-for-profit institutions and state, local or tribal government.

Number of Respondents: 65,295 respondents; 65,295 responses.

Estimated Time per Response: .25 hours.

Frequency of Response: Recordkeeping requirement.

Obligation to Respond: Required to obtain or retain benefits. Statutory authority for this information collection is contained in 47 U.S.C. Section 309(j).

Total Annual Burden: 16,324 hours.

Total Annual Cost: N/A.

Privacy Act Impact Assessment: Yes.

Nature and Extent of Confidentiality: There is a need for confidentiality with respect to all Private Land Mobile Radio Service (PLMRS) filers in this collection. Pursuant to Section 208(b) of the E-Government Act of 2002, 44 US.C. 3501, in conformance with the Privacy Act of 1974, 5 U.S.C. 552a, the Wireless Telecommunications Bureau (Bureau) instructs licensees to use the FCC's Universal Licensing System (ULS), Antenna Structure Registration (ASR), Commission Registration System (CORES) and related systems and subsystems to submit information. CORES is used to receive a FCC Registration Number (FRN) and password, after which one must register all current call sign and ASR numbers associated with a FRN within the Bureau's system of records (ULS database). Although ULS stores all information pertaining to the individual license via the FRN, confidential information is accessible only by persons or entities that hold the password for each account, and the Bureau's Licensing Division staff. Upon the request of a FRN, the individual licensee is consenting to make publicly available, via the ULS database, all information that is not confidential in nature.

Information on PLMRS licensees is maintained in the Commission's system of records, FCC/WTB-1, “Wireless Services Licensing Records”. The licensee records will be publicly available and routinely used in accordance with subsection (b) of the Privacy Act. FRN numbers and material which is afforded confidential treatment pursuant to a request made under 47 CFR 0.459 of the Commission's rules will not be available for public inspection. Any personally identifiable information (PII) that individual applicants provide is covered by a system of records, FCC/WTB-1, and these and all other records may be disclosed pursuant to Routine Uses as stated in this system of records notice.

Needs and Uses: The Commission will submit this information collection to the Office of Management and Budget (OMB) after this 60 day comment period in order to obtain the full three year clearance from them. The Commission is requesting approval of an extension of this information collection. The Commission is also reporting a significant increase in the total annual burden hours (+11,559 hours) due to an increase in respondents/responses. Therefore, the Commission has adjusted these estimates to report more accurate information to the OMB. Each licensee in the Private Land Mobile Radio Service (PLMRS) service must comply with the recordkeeping requirements of 47 CFR 90.443 of the Commission's rules. Specifically, paragraph (b) of that rule section requires that the dates and pertinent details of any maintenance performed on station equipment, and the name and address of the service technician who did the work be entered in the station records. These records will reflect whether or not maintenance of the licensee's equipment has been performed.

The maintenance records may be used by the licensee or Commission field personnel to note any recurring equipment problems or conditions that may lead to degraded equipment performance and/or interference generation. Tower lighting records are required to ensure that the licensee is aware of the tower light condition and proper operation, in order to prevent and/or correct any hazards to air navigation.

OMB Control Number: 3060-1127.

Title: First Responder Emergency Contact Information in the Universal Licensing System (ULS).

Form No.: N/A.

Type of Review: Extension of a currently approved collection.

Respondents: Business or other for-profit, not-for-profit institutions, and state, local or tribal government.

Number of Respondents: 133,095 respondents; 133,095 responses.

Estimated Time per Response: .25 hours.

Frequency of Response: On occasion reporting requirement.

Obligation to Respond: Voluntary. Statutory authority for this information collection is contained in 47 U.S.C. Section 154(i)

Total Annual Burden: 36,601 hours.

Total Annual Cost: N/A.

Privacy Act Impact Assessment: N/A.

Nature and Extent of Confidentiality: To protect the identities and locations of key first responder communications personnel, the Commission will treat emergency contact information submitted into ULS as confidential and will not make such information publicly available. The contact information submitted into ULS by public safety licensees and non-public safety licensees designated as emergency first responders will be available only to Commission staff. Interested licensees should file their operational point of contact information in ULS in the form of a confidential pleading.

To protect the confidentiality, integrity and availability of the emergency contact information submitted in this collection, the Commission will provide the information assurance services it currently provides to encrypt and store sensitive information.

Needs and Uses: The Commission is requesting approval of an extension of this information collection. The Commission sought and received emergency OMB approval of this information collection on September 3, 2009. The Commission will submit this information collection to the Office of Management and Budget (OMB) after this 60 day comment period in order to obtain the full three year clearance from them.

The Commission's Public Safety and Homeland Security Bureau (Bureau) enhanced the existing Universal Licensing System (ULS) to collect operational point of contact information from public safety licensees and non-public safety licensees designated as emergency first responders responsible for coordinating with state, county and local authorities during times of emergency. The process of procuring and maintaining spectrum using the ULS remains intact and requires no additional training for licensees to participate in this voluntary collection. This enhancement to ULS to collect emergency point of contact information will enable Commission staff to more effectively provide immediate assistance and outreach to licensees during times of emergency. Using this information, the Bureau will be able to coordinate among licensees in given geographic areas to make more wireless radio service available to emergency first responders and emergency operations. The Bureau deployed these enhancements upon receipt of OMB approval for the emergency request.

Public safety licensees designated as emergency first responders operating pursuant to Part 90 rules should identify the following information regarding the operational point of contact for the Licensee directly responsible for coordinating with the state, county, and/or local emergency authorities: (a) Name and title; (b) office telephone number; (c) mobile telephone number; and (4) e-mail address.

The Bureau will issue a Public Notice with step-by-step instructions on how to use the enhanced features made available to licensees to provide this information.

Federal Communications Commission.
Marlene H. Dortch,
Secretary.

[FR Doc. E9-22317 Filed 9-15-09; 8:45 am]

BILLING CODE 6712-01-P